DEPARTMENT OF THE INTERIOR

Bureau of Land Management

[OR-130-1020-AL; GP8-0040]

Notice of Cancellation of Public Meeting, Eastern Washington Resource Advisory Council Meeting

AGENCY: Bureau of Land Management, U.S. Department of the Interior.

ACTION: Notice of cancellation of public meeting.

SUMMARY: The upcoming meeting for the U.S. Department of the Interior, Bureau of Land Management (BLM) Eastern Washington Resource Advisory Council is cancelled.

DATES: BLM previously scheduled the meeting for January 17, 2008, at the BLM Spokane District Office, 1103 N. Fancher Rd., Spokane Valley, WA 99212.

SUPPLEMENTARY INFORMATION: A notice announcing meeting was published in the Federal Register on December 13, 2007.

FOR FURTHER INFORMATION CONTACT: Scott Pavey, BLM Spokane District, 1103 N. Fancher Rd., Spokane Valley, WA, 99212 or call (509) 536-1200.

Dated: January 9, 2008.
Robert B. Towne,
District Manager.

[FR Doc. E8-632 Filed 1-15-08; 8:45 am]

BILLING CODE 4310-33-P